DEPARTMENT OF DEFENSE

Department of the Army; Army Corps of Engineers

Intent To Prepare a Joint Environmental Impact Statement/Environmental Impact Report for the Sacramento River Bank Protection Project Phase II Supplemental Authority providing for implementation of up to 80,000 linear feet of additional bank protection in the Sacramento River Flood Control Project area, Butte, Colusa, Contra Costa, Glenn, Placer, Sacramento, Solano, Sutter, Tehama, Yolo, and Yuba Counties, CA

AGENCY: Department of the Army, U.S. Army Corps of Engineers, DOD.

ACTION: Notice of intent.

SUMMARY: The action being taken is the preparation of a joint environmental impact statement/environmental impact report (EIS/EIR) for the Sacramento River Bank Protection Project (SRBPP) Phase II Supplemental Authority. The SRBPP Phase II Supplemental Authority will result in the implementation of an additional 80,000 linear feet of bank protection in the Sacramento River Flood Control Project area, as authorized by the Water Resources Development Act (WRDA) of 2007. The SRBPP Phase II Supplemental Authority is located in the Sacramento River Flood Control Project (SRFCP) area, consisting of the Sacramento River and its Tributaries, CA.

DATES: A series of public scoping meetings will be held as follows:

1. Tuesday, February 17, 2009, 6 to 8 p.m. at Colusa Fairgrounds, Atwood Hall (1303 10th Street, Colusa).

2. Wednesday, February 18, 2009, 6 to 8 p.m. at Jean Harvie Community and Senior Center (14273 River Road, Walnut Grove).

3. Tuesday, February 24, 2009, 4 to 6 p.m. at Library Galleria (828 “I” Street, Sacramento).

4. Wednesday, February 25, 2009, 6 to 8 p.m. at the Chico Masonic Family Center (110 West East Avenue, Chico).

Send written comments by March 16, 2009 to the address below.

ADDRESSES: Written comments and suggestions concerning this project may be submitted to Mr. Matthew Davis, U.S. Army Corps of Engineers, Sacramento District, Attn: CESPK-PD-R, 1325 J Street, Sacramento, CA 95814-2922. Requests to be placed on the mailing list should also be sent to this address.

FOR FURTHER INFORMATION CONTACT: Questions about the proposed action and EIS/EIR should be addressed to Matthew Davis at (916) 557-6708, by e-mail Matthew.G.Davis@usace.army.mil, by fax (916) 557-7856, or by mail to (see ADDRESSES).

SUPPLEMENTARY INFORMATION: The U.S. Army Corps of Engineers, Sacramento District (Corps) is the federal lead agency for compliance with the National Environmental Policy Act (NEPA) for the Proposed Action. The Central Valley Flood Protection Board of the State of California (CVFPB) is the state lead agency for compliance with the California Environmental Quality Act (CEQA) for the Proposed Action.

1. Proposed Action. Section 3031 of the Water Resources Development Act (WRDA) of 2007 authorizes the U.S. Army Corps of Engineers and its local sponsors to construct an additional 80,000 linear feet of bank protection in the SRBPP area. The Corps and the CVFPB are preparing an EIS/EIR to analyze the impacts of constructing an additional 80,000 linear feet of bank protection in the SRBPP area in the form of bank stabilization, employing primarily riprap, and levee setbacks where feasible.

The planning area for the proposed actions is considered to be the entire Sacramento River Flood Control Project, and the Corps' current inventory of critical eroding sites will constitute a representative sample of the sites to eventually be treated. As streambank erosion is episodic and new critical sites can appear each year, the environmental analysis will be programmatic in nature allowing for future environmental impact analysis for specific projects, as needed.

2. Alternatives. The EIS/EIR will address the No Action alternative and five action alternatives including four different types of bank protection alternatives and a levee setback alternative. The four types of bank protection alternatives differ from one another in the amount and extent of rock protection placed and the environmental features (e.g., vegetation and instream woody material) incorporated in the design.

3. Scoping Process.

a. A series of public scoping meetings will be held in February 2009 to present information to the public and to receive comments from the public. These meetings are intended to initiate the process to involve concerned individuals, and local, State, and Federal agencies.

b. Significant issues to be analyzed in depth in the EIS/EIR include effects on river meander, hydraulics, wetlands and other waters of the U.S., vegetation and wildlife resources, special-status species, aesthetics, cultural resources, recreation, land use, fisheries, water quality, air quality, noise, transportation, visual resources, and socioeconomics; and cumulative effects of related projects in the study area.

c. The Corps will consult with the State Historic Preservation Officer to comply with the National Historic Preservation Act and the U.S. Fish and Wildlife Service and National Marine Fisheries Service to comply with the Endangered Species Act. The Corps is also coordinating with the U.S. Fish and Wildlife Service to comply with the Fish and Wildlife Coordination Act.

d. A 45-day public review period will be provided for individuals and agencies to review and comment on the draft EIS/EIR. All interested parties are encouraged to respond to this notice and provide a current address if they wish to be notified of the draft EIS/EIR circulation.

4. Availability. The draft EIS/EIR is scheduled to be available for public review and comment in October 2010.

Dated: January 22, 2009.
Thomas C. Chapman,
Colonel, Corps of Engineers, District Engineer.

[FR Doc. E9-2036 Filed 1-29-09; 8:45 am]

BILLING CODE 3720-58-P